DEPARTMENT OF AGRICULTURE

Forest Service

Mendocino Resource Advisory Committee

AGENCY: Forest Service, USDA.

ACTION: Notice of meeting.

SUMMARY: The Mendocino County Resource Advisory Committee will meet March 18, 2005, (RAC) in Willits, California. Agenda items to be covered include: (1) Approval of minutes, (2) Public Comment, (3) Sub-committees, (4) Discussion/Approval of projects (Travelers Home and Hellhole trails, canary grass, Middle Fork Eel river barriers), (6) Matters before the group-discussion/action, (9) Next agenda and meeting date.

DATES: The meeting will be held on March 18, from 9 a.m. to 12 noon.

ADDRESSES: The meeting will be held at Mendocino County Museum, located at 400 E. Commercial St., Willits, California.

FOR FURTHER INFORMATION CONTACT: Roberta Hurt, Committee Coordinator, USDA, Mendocino National Forest, Covelo Ranger District, 78150 Covelo Road, Covelo, CA 95428. (707) 983-8503; e-mail rhurt@fs.fed.us.

SUPPLEMENTARY INFORMATION: The meeting is open to the public. Persons who wish to bring matters to the attention of the Committee may file written statements with the Committee staff by March 15, 2005. Public comment will have the opportunity to address the committee at the meeting.

Dated: February 22, 2005.
Blaine Baker,
Designated Federal Official.

[FR Doc. 05-3767 Filed 2-25-05; 8:45 am]

BILLING CODE 3410-11-M